DEPARTMENT OF STATE

[Public Notice 6799]

Bureau of Educational and Cultural Affairs (ECA) Request for Grant Proposals: The Benjamin Franklin Transatlantic Fellows Summer Institute (Europe and Eurasia) and the Benjamin Franklin Summer Institute With Asia (Central and South Asia)

Announcement Type: New Grant.

Funding Opportunity Number: ECA/PE/C/PY-10-03.

Catalog of Federal Domestic Assistance Number: 19.415.

Application Deadline: January 6, 2010.

Executive Summary: The Office of Citizen Exchanges, Youth Programs Division, of the Bureau of Educational and Cultural Affairs (ECA) announces an open competition for two grants for summer institutes for youth. Public and private non-profit organizations meeting the provisions described in Internal Revenue Code section 26 U.S.C. 501(c)(3), including accredited, post-secondary U.S. educational institutions, may submit proposals to provide a three- to four-week U.S.-based institute for one of the two institute options in the summer of 2010 for up to 45 teenagers aged 16-18. One institute—the Benjamin Franklin Transatlantic Fellows Summer Institute—is for participants from Europe, the European countries of Eurasia, and the United States. The other institute—the Benjamin Franklin Summer Institute with Asia—is for participants from Afghanistan, Pakistan, Tajikistan, Turkmenistan, Uzbekistan, and the United States. U.S. Embassies in all the participating countries will select the foreign participants, and the U.S. grant recipients will select the American participants. Both institutes will focus on leadership development, critical thinking, diplomacy, community activism, and the media as ways that young adults can unite around their common goals. Support for individual or small group follow-on projects in the home communities of the exchange alumni will complete the program.

I. Funding Opportunity Description

Authority: Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation.

Purpose: These institutes aim to foster relationships among the younger generation to build strong linkages and an awareness of shared values and to enable youth to face together the global challenges of the 21st Century. Through these institutes, diverse but intellectually curious students aged 16 to 18 will participate in an intensive, three- to four-week exchange program in the United States. Participants will be engaged in a variety of activities such as training sessions, workshops, community and/or school-based programs, and cultural events. Participants will work together to prepare joint projects that present and promote the Institutes' stated goals and objectives.

Goals: The goals of the Benjamin Franklin Institutes are (1) to develop a sense of civic responsibility and a commitment to cooperation among youth; (2) to foster relationships among youth from different ethnic, religious, and national groups; (3) to promote mutual understanding between the people of the United States and other countries; and (4) to develop a cadre of young leaders who will share their knowledge and skills with their peers through positive action.

With the specific focus of these institutes, the following outcomes will indicate a successful project:

• Participants from abroad will demonstrate an improved understanding of the United States and its people, and the American students will better understand the interests of the people of the participating countries.

• Participants will work together to identify and overcome misunderstanding or lack of understanding among nations both during the institute and after they return to their homes.

• Participants will develop critical thinking skills that will enable them to judge how effectively and accurately information is conveyed.

• Participants will demonstrate a better understanding of international relations and issues.

• Participants will gain an understanding of the roles of the media and public perceptions in diplomacy and global issues.

The Benjamin Franklin Transatlantic Fellows Summer Institute began in 2006 to honor the 300th anniversary of the birth of Benjamin Franklin, the legendary American statesman and diplomat, whose career, interests, and studies took him across the Atlantic Ocean, bringing about greater understanding between Americans and Europeans. His life offers inspiration to young citizens of today. As a diplomat and a printer, he used the power of diplomacy and the media to increase the exchange of information between Americans and the people of other countries. In this light, the earlier Summer Institutes guided participants to examine what we need to know about each other to communicate better and to face the many challenges of the 21st Century together. The Institutes also explored how young people interact with media, both as consumers and producers of information, and how freedom of expression both provides rights to, and imposes responsibilities on citizens.

The Bureau is now offering the opportunity to explore these themes to new delegations of youth by continuing its Benjamin Franklin Transatlantic Fellows Institute for European, Eurasians, and Americans, and by creating a new Institute for Fellows from Central Asia, South Asia, and the United States. The structure and themes will be similar; specific differences are outlined below.

Each Institute will take place on a U.S. university or college campus, or at a similar venue. Ideally, the venue selected will be on or near a campus with a European or Asian Studies center, as appropriate. For a portion of the Institute, the Fellows will be housed together at a dormitory on campus, because living together will facilitate greater cooperation on the project and training. For at least ten days of the Institute, all Fellows will have homestays with local families.

Organizations or institutions may apply to implement only one of the two Institutes. If more than one proposal is received from an applicant, all of its proposals will be disqualified. Please clearly identify the Institute for which you are applying and outline the specific reasons why the application institution is qualified to work with participants from the selected region (Europe/Eurasia or Central/South Asia).

Institute A: Benjamin Franklin Transatlantic Fellows Summer Institute (Europe and the European Countries of Eurasia)

The Benjamin Franklin Transatlantic Fellows Summer Institute will be designed for up to 45 students ages 16-18 from Europe, the European countries of Eurasia, and the United States. One or two students will come from each participating country, except for the United States, which will have ten representatives. U.S. Embassies that wish to participate will screen and select the overseas participants from a pool of students with whom they have contact. All countries of Europe and the European countries of Eurasia will be eligible to nominate participants; the State Department will be responsible for the final selection of participants and the countries they will represent. U.S. Embassies will arrange and pay for the Europeans' international travel to and from the United States. The grant recipient will be responsible for recruiting and selecting the American participants from across the United States. All students will be able to participate fully in English.

The grant recipient should arrange for highly qualified mentors for the Fellows during the course of the Institute, and for follow-on activities; the mentors may also serve as trainers or instructors, as appropriate. The grantee organization will arrange for adult chaperones for select transatlantic flights (e.g., Frankfurt to the institute site), and adult staff should be available to support the participants during the course of the Institute.

A study trip to Washington, DC must be included either during the Institute or at the end. The State Department will organize one day of activities and the grant recipient will arrange other activities in Washington that offer insight into leadership, diplomacy, and the media. A side trip to Philadelphia to visit key sites connected to Benjamin Franklin's legacy is recommended. The Institute may take place in one or two communities (including, or in addition to the study trip) and should offer the participants exposure to the variety of American life.

Institute B: Benjamin Franklin Summer Institute With Asia (Central and South Asia)

The Benjamin Franklin Summer Institute With Asia will be designed for up to 45 students ages 16-18 from five countries in South and Central Asia and from the United States. Seven students will come from each participating country: Afghanistan, Pakistan, Tajikistan, Turkmenistan, and Uzbekistan. They will be joined by ten students from the United States. U.S. Embassies will screen and select the overseas participants, and will arrange and pay for the Asian participants' international travel to and from the United States. The grant recipient will be responsible for recruiting and selecting the American participants from across the United States, and for their travel to the Institute. All students will be able to participate fully in English.

The grant recipient should arrange for highly qualified mentors for the Fellows during the course of the Institute and for follow-on activities; the mentors may also serve as trainers or instructors as appropriate. Adult staff should be available to support the participants during the course of the Institute. The U.S. embassies will arrange for adult chaperones for the international travel.

For both Institutes:

Program content: The Institute should focus primarily on the exploration of global issues through interactive activities, practical experiences, and other hands-on opportunities, through which the participants will learn more about democratic practices, volunteer service, conflict resolution, critical thinking, tolerance and respect for diversity, youth leadership, and the media. In addition to the American Fellows, program activities should engage American teenagers wherever possible. Cultural and recreational activities will balance the schedule.

Before and during the Institute, students will gather information on young adults' views about one or two areas of common or global interest, such as sustainable development, inter-ethnic cooperation, or human rights. They will also identify and address stereotypes they hold of others. The students will gather information via the Internet and various forms of the media, through interviews with their contemporaries and with experts—including academics and diplomats—and by other methods, such as designing and conducting a survey. The grant recipient should be prepared to guide some of these pre-program and on-program activities.

Increasingly young people have come to rely upon mass communication—the use of words, sounds, and images by a few to inform, educate, entertain and persuade the many—to learn about the world they inhabit. Mass media not only supplies factual information, it also expresses cultural preferences, promotes value systems, and fuels commerce through advertising and product placement. The program should provide the participants with a new perspective on their learning, networking, perceptions of each other, the communities they live in, and the broader media culture.

Training will focus on developing a critical reading of printed, broadcast, and electronic media. The students should increase their awareness of the levels of communication in news and popular media, to be able to judge the content and accuracy for themselves. Training will cover communication skills, problem solving, and team building.

Finally, students will design simple educational materials, an outreach campaign, a newsletter, or another type of project that enables the Fellows to share the content of their discussions with their peers.

The participants will take part in at least one community service activity during the U.S. program to demonstrate American volunteerism. The program should provide context for the participants to undertake the service activity—identifying community needs, the nature of volunteerism, charitable giving, etc.—and a debriefing so that the service activity is not an isolated event and to help participants see how they can apply the experience at home.

In addition to this community service, the participants will present and test the educational materials or outreach described above. Upon their return home, participants will develop, test, and present the materials with audiences in their home countries.

Guidelines:

Pending the availability of funds, the grants will begin on or about April 15, 2010. Applicants should propose a three- to four-week U.S. institute that will take place between late June and late August 2010. The grant period will be approximately 12 months in duration, as appropriate to the program design.

The grant recipient will be responsible for the following:

• Recruitment, screening, and selection of American participants, ages 16-18, representing the diversity of the United States.

• The designing and planning of a substantive program in the United States that promotes international dialogue on key global issues, critical thinking, democracy and tolerance, media analysis, leadership development, civic education, and community service. Some activities should be school and/or community-based, as feasible, and the projects will involve as much interaction with American peers, even beyond those directly participating in the Institute, as possible.

• Logistical arrangements, properly screened host family arrangements, other accommodations, disbursement of stipends/per diem, local travel, and travel between sites.

• Monitoring of the participants' safety and well-being while at the institute.

• Follow-on activities in the participants' home countries designed to reinforce the ideas, values, and skills imparted during the U.S. program.

Applicant organizations must demonstrate their capacity for doing projects of this nature, focusing on three areas of competency: (1) Provision of programs that address the goals and themes outlined in this document; (2) age-appropriate programming for youth; and (3) previous experience in working in Europe/Eurasia or Central/South Asia, as appropriate. Applicant organizations should be able to help U.S. embassies support follow-on activities for the alumni of the U.S.-based Institutes.

Proposals must demonstrate how the stated objectives will be met. The proposal narrative should provide detailed information on how the major program activities will be implemented, and applicants should explain and justify their programmatic choices. Programs must comply with J-1 visa regulations for the International Visitor category. Please be sure to refer to the complete Solicitation Package—this RFGP, the Project Objectives, Goals, and Implementation (POGI), and the Proposal Submission Instructions (PSI)—for further information.

II. Award Information

Type of Award: Grant Agreement.

Fiscal Year Funds: FY-2010.

Approximate Total Funding: $424,000.

Number of Awards: Two.

Approximate Average Award: $212,000.

Anticipated Award Date: Pending availability of funds, April 15, 2010.

Anticipated Project Completion Date: March 31, 2011.

Additional Information: Pending successful implementation of this program and the availability of funds in subsequent fiscal years, it is ECA's intent to renew these grants for two additional fiscal years, before openly competing it again.

III. Eligibility Information

III.1. Eligible Applicants: Applications may be submitted by public and private non-profit organizations meeting the provisions described in Internal Revenue Code section 26 U.S.C. 501(c)(3).

III.2. Cost Sharing or Matching Funds: There is no minimum or maximum percentage required for this competition. However, the Bureau encourages applicants to provide maximum levels of cost sharing and funding in support of its programs.

When cost sharing is offered, it is understood and agreed that the applicant must provide the amount of cost sharing as stipulated in its proposal and later included in an approved agreement. Cost sharing may be in the form of allowable direct or indirect costs. For accountability, you must maintain written records to support all costs which are claimed as your contribution, as well as costs to be paid by the Federal government. Such records are subject to audit. The basis for determining the value of cash and in-kind contributions must be in accordance with OMB Circular A-110, (Revised), Subpart C.23—Cost Sharing and Matching. In the event you do not provide the minimum amount of cost sharing as stipulated in the approved budget, ECA's contribution will be reduced in like proportion.

III.3. Other Eligibility Requirements:

(a) Bureau grant guidelines require that organizations with less than four years experience in conducting international exchanges be limited to $60,000 in Bureau funding. ECA anticipates making two awards in amounts exceeding $60,000 to support program and administrative costs required to implement this exchange program. Therefore, organizations with less than four years experience in conducting international exchanges are ineligible to apply under this competition. The Bureau encourages applicants to provide maximum levels of cost sharing and funding in support of its programs.

(b) Organizations or institutions may apply for only one of the two institutes. If more than one proposal is received from an applicant, all proposals will be disqualified.

IV. Application and Submission Information

Note: Please read the complete announcement before sending inquiries or submitting proposals. Once the RFGP deadline has passed, Bureau staff may not discuss this competition with applicants until the proposal review process has been completed.

IV.1 Contact Information To Request an Application Package: Please contact the Youth Programs Division (ECA/PE/C/PY), U.S. Department of State, SA-5, 3rd Floor, Washington, DC 20522-0503, Telephone (202) 632-6079, Fax (202) 632-9355, E-mail: PiersonCompeauHM@state.gov to request a Solicitation Package. Please refer to the Funding Opportunity Number (ECA/PE/C/PY-10-03) when making your request. Alternatively, an electronic application package may be obtained from grants.gov. Please see section IV.3f for further information.

The Solicitation Package contains the Proposal Submission Instruction (PSI) document which consists of required application forms, and standard guidelines for proposal preparation. It also contains the Project Objectives, Goals and Implementation (POGI) document, which provides specific information, award criteria and budget instructions tailored to this competition.

Please specify Program Officer Carolyn Lantz and refer to the Funding Opportunity Name and Number located at the top of this announcement on all other inquiries and correspondence.

IV.2. To Download a Solicitation Package via Internet: The entire Solicitation Package may be downloaded from the Bureau's Web site at http://exchanges.state.gov/grants/open2.html, or from the Grants.gov Web site at http://www.grants.gov.

Please read all information before downloading.

IV.3. Content and Form of Submission: Applicants must follow all instructions in the Solicitation Package. The application should be submitted per the instructions under IV.3f. “Application Deadline and Methods of Submission” section below.

IV.3a. You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF-424 which is part of the formal application package.

IV.3b. All proposals must contain an executive summary, proposal narrative and budget.

Please refer to the solicitation package. It contains the mandatory Project Objectives, Goals and Implementation (POGI) document and the mandatory Proposal Submission Instructions (PSI) document for additional formatting and technical requirements.

IV.3c. You must have nonprofit status with the IRS at the time of application. Please note: Effective January 7, 2009, all applicants for ECA Federal assistance awards must include in their application the names of directors and/or senior executives (current officers, trustees, and key employees, regardless of amount of compensation). In fulfilling this requirement, applicants must submit information in one of the following ways:

(1) Those who file Internal Revenue Service Form 990, “Return of Organization Exempt From Income Tax,” must include a copy of relevant portions of this form.

(2) Those who do not file IRS Form 990 must submit information above in the format of their choice.

In addition to final program reporting requirements, award recipients will also be required to submit a one-page document, derived from their program reports, listing and describing their grant activities. For award recipients, the names of directors and/or senior executives (current officers, trustees, and key employees), as well as the one- page description of grant activities, will be transmitted by the State Department to OMB, along with other information required by the Federal Funding Accountability and Transparency Act (FFATA), and will be made available to the public by the Office of Management and Budget on its USASpending.gov Web site as part of ECA's FFATA reporting requirements.

If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.1 Adherence to All Regulations Governing the J Visa

The Office of Citizen Exchanges of the Bureau of Educational and Cultural Affairs is the official program sponsor of the exchange program covered by this RFGP, and an employee of the Bureau will be the “Responsible Officer” for the program under the terms of 22 CFR part 62, which covers the administration of the Exchange Visitor Program (J visa program). Under the terms of 22 CFR part 62, organizations receiving awards (either a grant or cooperative agreement) under this RFGP will be third parties “cooperating with or assisting the sponsor in the conduct of the sponsor's program.” The actions of recipient organizations shall be “imputed to the sponsor in evaluating the sponsor's compliance with” 22 CFR part 62. Therefore, the Bureau expects that any organization receiving an award under this competition will render all assistance necessary to enable the Bureau to fully comply with 22 CFR part 62 et seq.

The Bureau of Educational and Cultural Affairs places critically important emphases on the secure and proper administration of Exchange Visitor (J visa) Programs and adherence by recipient organizations and program participants to all regulations governing the J visa program status. Therefore, proposals should explicitly state in writing that the applicant is prepared to assist the Bureau in meeting all requirements governing the administration of Exchange Visitor Programs as set forth in 22 CFR part 62. If your organization has experience as a designated Exchange Visitor Program Sponsor, the applicant should discuss their record of compliance with 22 CFR part 62 et seq., including the oversight of their Responsible Officers and Alternate Responsible Officers, screening and selection of program participants, provision of pre-arrival information and orientation to participants, monitoring of participants, proper maintenance and security of forms, recordkeeping, reporting and other requirements.

The Office of Citizen Exchanges of ECA will be responsible for issuing DS-2019 forms to participants in this program.

A copy of the complete regulations governing the administration of Exchange Visitor (J) programs is available at http://exchanges.state.gov or from: Office of Designation, ECA/EC/D, SA-5, Floor C2, Department of State, Washington, DC 20522-0582.

IV.3d.2 Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content. Please refer to the review criteria under the ‘Support for Diversity’ section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

IV.3d.3. Program Monitoring and Evaluation

Proposals must include a plan to monitor and evaluate the project's success, both as the activities unfold and at the end of the program. The Bureau recommends that your proposal include a draft survey questionnaire or other technique plus a description of a methodology to use to link outcomes to original project objectives. The Bureau expects that the recipient organization will track participants or partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and outcomes at the outset of a program. Your evaluation plan should include a description of your project's objectives, your anticipated project outcomes, and how and when you intend to measure these outcomes (performance indicators). The more that outcomes are “smart” (specific, measurable, attainable, results-oriented, and placed in a reasonable time frame), the easier it will be to conduct the evaluation. You should also show how your project objectives link to the goals of the program described in this RFGP.

Your monitoring and evaluation plan should clearly distinguish between program outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and is usually measured as an extent of change. Findings on outputs and outcomes should both be reported, but the focus should be on outcomes.

We encourage you to assess the following four levels of outcomes, as they relate to the program goals set out in the RFGP (listed here in increasing order of importance):

1. Participant satisfaction with the program and exchange experience.

2. Participant learning, such as increased knowledge, aptitude, skills, and changed understanding and attitude. Learning includes both substantive (subject-specific) learning and mutual understanding.

3. Participant behavior, concrete actions to apply knowledge in work or community; greater participation and responsibility in civic organizations; interpretation and explanation of experiences and new knowledge gained; continued contacts between participants, community members, and others.

4. Institutional changes, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of your monitoring and evaluation plan will be judged on how well it (1) specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

Recipient organizations will be required to provide reports analyzing their evaluation findings to the Bureau in their regular program reports. All data collected, including survey responses and contact information, must be maintained for a minimum of three years and provided to the Bureau upon request.

IV.3e. Please take the following information into consideration when preparing your budget:

IV.3e.1. Applicants must submit SF-424A—“Budget Information—Non-Construction Programs” along with a comprehensive budget for the entire program. Grant requests, which will be for one of the two Institutes announced, may not exceed $212,000. This amount will not include the international travel costs for the exchange participants. There must be a summary budget as well as breakdowns reflecting both administrative and program budgets. Applicants may provide separate sub-budgets for each program component, phase, location, or activity to provide clarification.

The Bureau reserves the right to reduce, revise, or increase proposal budgets in accordance with the needs of the program and the availability of funds.

Please refer to the Solicitation Package for complete budget guidelines and formatting instructions.

IV.3f. Application Deadline and Methods of Submission:

Application Deadline Date: Wednesday, January 6, 2010.

Reference Number: ECA/PE/C/PY-10-03.

Methods of Submission:

Applications may be submitted in one of two ways:

(1) In hard-copy, via a nationally recognized overnight delivery service (i.e., Federal Express, UPS, Airborne Express, or U.S. Postal Service Express Overnight Mail, etc.), or

(2) Electronically through http://www.grants.gov.

Along with the Project Title, all applicants must enter the above Reference Number in Box 11 on the SF-424 contained in the mandatory Proposal Submission Instructions (PSI) of the solicitation document.

IV.3f.1 Submitting Printed Applications

Applications must be shipped no later than the above deadline. Delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. ECA will not notify you upon receipt of application. It is each applicant's responsibility to ensure that each package is marked with a legible tracking number and to monitor/confirm delivery to ECA via the Internet. Delivery of proposal packages may not be made via local courier service or in person for this competition. Faxed documents will not be accepted at any time. Only proposals submitted as stated above will be considered.

Important note: When preparing your submission please make sure to include one extra copy of the completed SF-424 form and place it in an envelope addressed to “ECA/EX/PM”.

The original and six copies of the application should be sent to: Program Management Division, ECA-IIP/EX/PM, Ref.: ECA/PE/C/PY-10-03, SA-5, Floor 4, Department of State, Washington, DC 20522-0504.

With the submission of the proposal package, please also e-mail the Executive Summary, Proposal Narrative, and Budget sections of the proposal, as well as any attachments essential to understanding the program, in Microsoft Word and/or Excel to the program officer at LantzCS@state.gov. The Bureau will provide these files electronically to the Public Affairs Section at the U.S. Embassies for their review.

IV.3f.2 Submitting Electronic Applications

Applicants have the option of submitting proposals electronically through Grants.gov (http://www.grants.gov). Complete solicitation packages are available at Grants.gov in the “Find” portion of the system.

Please Note: ECA strongly encourages organizations interested in applying for this competition to submit printed, hard copy applications as outlined in section IV.3f.1. above, rather than submitting electronically through Grants.gov. This recommendation is being made as a result of the anticipated high volume of grant proposals that will be submitted via the Grants.gov webportal as part of the Recovery Act stimulus package. As stated in this RFGP, ECA bears no responsibility for data errors resulting from transmission or conversion processes for proposals submitted via Grants.gov.

Please follow the instructions available in the `Get Started' portion of the site (http://www.grants.gov/GetStarted).

Several of the steps in the Grants.gov registration process could take several weeks. Therefore, applicants should check with appropriate staff within their organizations immediately after reviewing this RFGP to confirm or determine their registration status with Grants.gov.

Once registered, the amount of time it can take to upload an application will vary depending on a variety of factors including the size of the application and the speed of your Internet connection. In addition, validation of an electronic submission via Grants.gov can take up to two business days.

Therefore, we strongly recommend that you not wait until the application deadline to begin the submission process through Grants.gov.

The Grants.gov Web site includes extensive information on all phases/aspects of the Grants.gov process, including an extensive section on frequently asked questions, located under the “For Applicants” section of the Web site. ECA strongly recommends that all potential applicants review thoroughly the Grants.gov Web site, well in advance of submitting a proposal through the Grants.gov system. ECA bears no responsibility for data errors resulting from transmission or conversion processes.

Direct all questions regarding Grants.gov registration and submission to: Grants.gov Customer Support. Contact Center Phone: 800-518-4726. Business Hours: Monday-Friday, 7 a.m.-9 p.m. Eastern Time. E-mail: support@grants.gov.

Applicants have until midnight (12 a.m.), Washington, DC time of the closing date to ensure that their entire application has been uploaded to the Grants.gov site. There are no exceptions to the above deadline. Applications uploaded to the site after midnight of the application deadline date will be automatically rejected by the grants.gov system, and will be technically ineligible.

Please refer to the Grants.gov Web site, for definitions of various “application statuses” and the difference between a submission receipt and a submission validation. Applicants will receive a validation e-mail from grants.gov upon the successful submission of an application. Again, validation of an electronic submission via Grants.gov can take up to two business days. Therefore, we strongly recommend that you not wait until the application deadline to begin the submission process through Grants.gov. ECA will not notify you upon receipt of electronic applications.

It is the responsibility of all applicants submitting proposals via the Grants.gov Web portal to ensure that proposals have been received by Grants.gov in their entirety, and ECA bears no responsibility for data errors resulting from transmission or conversion processes.

IV.3g. Intergovernmental Review of Applications: Executive Order 12372 does not apply to this program.

V. Application Review Information

V.1. Review Process

The Bureau will review all proposals for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance awards (grants) resides with the Bureau's Grants Officer.

Review Criteria

Technically eligible applications will be competitively reviewed according to the criteria stated below:

1. Quality of the program idea: The proposed program should be well developed, respond to design outlined in the solicitation, and demonstrate originality. It should be clearly and accurately written, substantive, and with sufficient detail. Proposals should exhibit originality, substance, precision, and relevance to the Bureau's mission.

2. Program planning and ability to achieve program objectives: A detailed agenda and work plan should clearly demonstrate how project objectives would be achieved. The agenda and plan should adhere to the program overview and guidelines described above. The substance of workshops, seminars, presentations, school-based activities, and/or site visits should be described in detail. Objectives should be reasonable, feasible, and flexible. The proposal should clearly demonstrate how the institution will meet the program's objectives and plan.

3. Support of diversity: The proposal should demonstrate the recipient's commitment to promoting the awareness and understanding of diversity in program content. Applicants should demonstrate readiness to accommodate participants with physical disabilities.

4. Institutional capacity and track record: Proposed personnel and institutional resources should be adequate and appropriate to achieve the program goals. The proposal should demonstrate an institutional record, including responsible fiscal management and full compliance with all reporting requirements for past Bureau grants as determined by the Bureau's Office of Contracts. The Bureau will consider the past performance.

5. Cross-cultural sensitivity and area expertise: Applicants must demonstrate their understanding of the area in which they propose to work and should demonstrate sensitivity to participants' values, customs, and life experiences in the programming.

6. Follow-on activities: Proposals should provide a plan for a Bureau-supported follow-on visit by project staff to the relevant country or region, plus a plan for continued follow-on activity, not necessarily with Bureau support, that insures that this program is not an isolated event.

7. Project evaluation: The proposal should include a plan to evaluate the activity's success, both as the activities unfold and at the end of the program. The proposal should include a draft survey questionnaire or other technique plus description of a methodology to use to link outcomes to original project objectives. The grant recipient will be expected to submit intermediate reports after each project component is concluded.

8. Cost-effectiveness and cost sharing: The applicant should demonstrate efficient use of Bureau funds. The overhead and administrative components of the proposal, including salaries and honoraria, should be kept as low as possible. All other items should be necessary and appropriate. The proposal should maximize cost-sharing through other private sector support as well as institutional direct funding contributions, which demonstrates institutional and community commitment.

VI. Award Administration Information

VI.1a. Award Notices

Final awards cannot be made until funds have been appropriated by Congress, allocated and committed through internal Bureau procedures. Successful applicants will receive a Federal Assistance Award (FAA) from the Bureau's Grants Office. The FAA and the original proposal with subsequent modifications (if applicable) shall be the only binding authorizing document between the recipient and the U.S. Government. The FAA will be signed by an authorized Grants Officer, and mailed to the recipient's responsible officer identified in the application.

Unsuccessful applicants will receive notification of the results of the application review from the ECA program office coordinating this competition.

VI.1b. The Following Additional Requirements Apply to This Project: Special Provision for Performance in a Designated Combat Area (Currently Iraq and Afghanistan) (December 2008)

All Recipient personnel deploying to areas of combat operations, as designated by the Secretary of Defense (currently Iraq and Afghanistan), under assistance awards over $100,000 or performance over 14 days must register in the Department of Defense maintained Synchronized Pre-deployment and Operational Tracker (SPOT) system. Recipients of Federal assistance awards shall register in SPOT before deployment, or if already in the designated operational area, register upon becoming an employee under the assistance award, and maintain current data in SPOT. Information on how to register in SPOT will be available from your Grants Officer or Grants Officer Representative during the final negotiation and approval stages in the Federal assistance awards process. Recipients of Federal assistance awards are advised that adherence to this policy and procedure will be a requirement of all final Federal assistance awards issued by ECA.

Recipient performance may require the use of armed private security personnel. To the extent that such private security contractors (PSCs) are required, grantees are required to ensure they adhere to Chief of Mission (COM) policies and procedures regarding the operation, oversight, and accountability of PSCs.

VI.2 Administrative and National Policy Requirements:

Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments”.

OMB Circular No. A-110 (Revised), Uniform Administrative Requirements for Grants and Agreements With Institutions of Higher Education, Hospitals, and Other Nonprofit Organizations.

OMB Circular No. A-102, Uniform Administrative Requirements for Grants-in-Aid to State and Local Governments.

OMB Circular No. A-133, Audits of States, Local Government, and Non-profit Organizations.

Please reference the following Web sites for additional information:

http://www.whitehouse.gov/omb/grants.

http://fa.statebuy.state.gov.

VI.3. Reporting Requirements: You must provide ECA with a hard copy original plus one copy of the following reports:

1. Interim reports, as required in the Bureau grant agreement.

2. A final program and financial report no more than 90 days after the expiration of the award.

3. A concise, one-page final program report summarizing program outcomes no more than 90 days after the expiration of the award. This one-page report will be transmitted to OMB, and be made available to the public via OMB's USAspending.gov Web site—as part of ECA's Federal Funding Accountability and Transparency Act (FFATA) reporting requirements.

4. A SF-PPR, “Performance Progress Report” Cover Sheet with all program reports.

Award recipients will be required to provide reports analyzing their evaluation findings to the Bureau in their regular program reports. Please refer to IV. Application and Submission Instructions (IV.3.d.3) above for Program Monitoring and Evaluation information.

All data collected, including survey responses and contact information, must be maintained for a minimum of three years and provided to the Bureau upon request.

All reports must be sent to the ECA Grants Officer and ECA Program Officer listed in the final assistance award document.

VII. Agency Contacts

For questions about this announcement, contact: Carolyn Lantz, Program Officer, Youth Programs Division (ECA/PE/C/PY), U.S. Department of State, SA-5, 3rd Floor, Washington, DC 20522-0503, Telephone (202) 632-6421, Fax (202) 632-9355, E-mail: LantzCS@state.gov.

All correspondence with the Bureau concerning this RFGP should reference the title, Benjamin Franklin Institute, and number, ECA/PE/C/PY-10-03.

Please read the complete announcement before sending inquiries or submitting proposals. Once the RFGP deadline has passed, Bureau staff may not discuss this competition with applicants until the proposal review process has been completed.

VIII. Other Information

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: October 26, 2009.
Maura M. Pally,
Acting Assistant Secretary for Educational and Cultural Affairs, U.S. Department of State.

[FR Doc. E9-26425 Filed 11-4-09; 8:45 am]

BILLING CODE 4710-05-P